DEPARTMENT OF TRANSPORTATION

Federal Railroad Administration

[Docket Number FRA-2025-0034]

Notice of Application for Approval of Discontinuance or Modification of a Railroad Signal System

AGENCY: Federal Railroad Administration (FRA), Department of Transportation (DOT).

ACTION: Notice.

SUMMARY: This document provides the public notice that Florida Gulf & Atlantic Railroad (FGA) petitioned FRA seeking approval to discontinue or modify a signal system. FRA is reissuing this notice because of an incorrect docket number given in the previous notice.

DATES: FRA must receive comments on the petition by June 9, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Scott Johnson, Railroad Safety Specialist, FRA Signal, Train Control, and Crossings Division, telephone: 406-210-3608, email: scott.j.johnson@dot.gov.

SUPPLEMENTARY INFORMATION: Under part 235 of title 49 Code of Federal Regulations (CFR) and 49 U.S.C. 20502(a), this document provides the public notice that by letter dated February 26, 2025, FGA petitioned FRA seeking approval to discontinue or modify a signal system. FRA assigned the petition Docket Number FRA-2025-0034.¹

¹ FRA erroneously cited Docket Number FRA-2025-0024 in a previous public notice announcing FGA's request. See 90 FR 19244 (May 6, 2025), available at https://www.federalregister.gov/documents/2025/05/06/2025-07829/notice-of-application-for-approval-of-discontinuance-or-modification-of-a-railroad-signal-system. The correct Docket Number is FRA-2025-0034.

Specifically, FGA requests to discontinue the centralized traffic control (CTC) system on the Tallahassee Subdivision, from milepost (MP) 693.3 to MP 802.0. FGA intends to remove the “outdated” CTC system and install “switch point approach signal indicators, DTMF Systems, and self-restoring switches at five siding locations between Baldwin and Tallahassee, as well as the switch accessing the Bainbridge Line at Tallahassee.” Train operation would then use track warrant control, which is used on FGA's other two subdivisions.

In support of the request, FGA states that it is difficult to find parts for the current CTC system, as the relays required are no longer produced, and the system frequently fails. Further, the CTC system sometimes “hinders operations by slowing down the switching operations when blocking or organizing interchange traffic.” FGA adds that the new DTMF system will provide broken rail protection and there is no potential for head-on or rear-end collisions at either interlocking in the subject area.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by June 9, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-08198 Filed 5-8-25; 8:45 am]

BILLING CODE 4910-06-P